DEPARTMENT OF COMMERCE

International Trade Administration

[C-570-968]

Aluminum Extrusions From the People's Republic of China: Alignment of Final Countervailing Duty Determination With Final Antidumping Duty Determination

AGENCY: Import Administration, International Trade Administration, Department of Commerce.

SUMMARY: The Department of Commerce (the Department) is aligning the final determination in the countervailing duty investigation of aluminum extrusions from the People's Republic of China (PRC) with the final determination in the companion antidumping duty investigation.

DATES: Effective Date: September 21, 2010.

FOR FURTHER INFORMATION CONTACT: John Conniff, AD/CVD Operations, Office 3, Import Administration, U.S. Department of Commerce, Room 4014, 14th Street and Constitution Avenue, NW., Washington, DC 20230; telephone: (202) 482-1009.

Background

On April 20, 2010, the Department initiated the countervailing and antidumping duty investigations on aluminum extrusions from the PRC. See Aluminum Extrusions from the People's Republic of China: Initiation of Countervailing Duty Investigation, 75 FR 22114 (April 27, 2010) (Initiation), and accompanying Initiation Checklist ¹ and Aluminum Extrusions from the People's Republic of China: Initiation of Antidumping Duty Investigation, 75 FR 22108 (April 27, 2010). The countervailing and antidumping duty investigations have the same scope with regard to the subject merchandise covered. On September 7, 2010, the Department published the preliminary affirmative countervailing duty determination pertaining to aluminum extrusions from the PRC. See Aluminum Extrusions From the People's Republic of China: Preliminary Affirmative Countervailing Duty Determination, 75 FR 54302 (September 7, 2010).

¹ Public and business proprietary versions of Departmental memoranda referenced in this Notice are on file in the Central Records Unit (CRU), Room 7046 in the main building of the Commerce Department.

On September 7, 2010, the petitioners ² submitted a letter, pursuant to 19 CFR 351.210(b)(4)(i), requesting alignment of the final countervailing duty determination with the final determination in the companion antidumping duty investigation of aluminum extrusions from the PRC.

² The petitioners are: Aluminum Extrusion Fair Trade Committee: Aerolite Extrusion Company; Alexandria Extrusions Company; Beneda Aluminum of Florida, Inc.; William L. Bonnell Company, Inc.; Frontier Aluminum Corporation; Futura Industries Corporation; Hydro Aluminum North American Inc.; Kaiser Aluminum Corporation; Profile Extrusion Company; Sapa Extrusions, Inc.; Western Extrusions Corporation; and the United Steel, Paper, and Forestry, Rubber, Manufacturing, Energy, Allied Industrial and Service Workers International Union.

Therefore, in accordance with section 705(a)(1) of the Tariff Act of 1930, as amended (the Act), and 19 CFR 351.210(b)(4), we are aligning the final countervailing duty determination on aluminum extrusions from the PRC with the final determination in the companion antidumping duty investigation of aluminum extrusions from the PRC. The final countervailing duty determination will be issued on the same date as the final antidumping duty determination, currently scheduled for January 10, 2011.

This notice is issued and published pursuant to section 705(a)(1) of the Act.

Dated: September 15, 2010.
Ronald K. Lorentzen,
Deputy Assistant Secretary for Import Administration.

[FR Doc. 2010-23552 Filed 9-20-10; 8:45 am]

BILLING CODE 3510-DS-P